DEPARTMENT OF COMMERCE

Bureau of Export Administration

15 CFR Parts 700 to 799

Title 15 CFR Parts 300 to 799; Republication

CFR Correction

Title 15 CFR parts 300 to 799, revised as of January 1, 2002, is being republished in its entirety. The earlier issuance inadvertently omitted and duplicated text in § 772.1 appearing on pages 553 through 575 inclusive.

[FR Doc. 02-55518 Filed 7-16-02; 8:45 am]

BILLING CODE 1505-01-D